DEPARTMENT OF DEFENSE

Defense Logistics Agency

Thorium Nitrate Disposition

AGENCY: Defense National Stockpile Center, Defense Logistics Agency.

ACTION: Notice of availability of environmental assessment and a draft finding of no significant impact for the disposition of the National Defense Stockpile's thorium nitrate.

SUMMARY: The Defense Logistics Agency announces the availability of the Environmental Assessment (EA) and draft Finding of No Significant Impact (FONSI) for the disposition of thorium nitrate (ThN) currently held in the National Defense Stockpile of strategic and critical materials.

The Defense National Stockpile Center (DNSC) manages the inventory of approximately 7 million pounds of ThN stored in drums at two DNSC depots—Curtis Bay, Maryland, and Hammond, Indiana. because of the presence of throium, ThN is a radioactive material.

The ThN stockpile was acquired between 1957 and 1964 for the Atomic Energy Commission, a predecessor to the Department of Energy (DOE) and has been retained because of its potential as a nuclear fuel. However, a commercially viable, throium-based nuclear fuel cycle has failed to develop nor is one likely to be developed in the foreseeable future. For several years, DNSC offered ThN for purchase by commercial firms or for use by other Federal agencies in quantities as small as a single drum. However, no potential user has expressed interest in purchasing the ThN since 1990. Consequently, the ThN inventory is deemed excess to the requirements of the Department of Defense.

Following evaluation of a reasonable range of storage and disposal alternatives conducted by Oak Ridge National Laboratory on behalf of DNSC, DNSC proposes to transfer the ThN to DOE for disposal at DOE's Nevada Test Site. The ThN would be disposed of as a low-level radioactive waste in a manner that minimizes radiation exposure and potential for risk to workers, the public, and the environment. A Memorandum of Understanding is in place that would allow transfer of the DoD ThN stockpile to DOE.

DATES: Comments on the draft FONSI received by November 24, 2003, will be considered when preparing the final version of the FONSI.

The EA and draft FONSI are available for review on the Defense Logistics Agency Web site (http://www.dla.mil). Comments should be sent to Mr. Michael Pecullan, 8725 John J. Kingman Road, Suite 3229, Fort Belvoir, VA 22060-6221. Comments may also be faxed to Mr. Pecullan at (703) 767-7716.

FOR FURTHER INFORMATION CONTACT: Mr. Michael Pecullan, Phone (703) 767-7620 or e-mail: michael.pecullan@dla.mil.

Dated: October 17, 2003.
Cornel A. Holder,
Administrator, Defense National Stockpile Center.

[FR Doc. 03-26760 Filed 10-23-03; 8:45 am]

BILLING CODE 3620-01-M